DEPARTMENT OF HOMELAND SECURITY

Coast Guard

33 CFR Part 165

[Docket No. USCG-2015-0501]

RIN 1625-AA00

Safety Zones; Annual Events in the Captain of the Port Buffalo Zone

AGENCY: Coast Guard, DHS.

ACTION: Notice of enforcement of regulation.

SUMMARY: At various times throughout the month of July, the Coast Guard will enforce certain safety zones located in the regulations. This action is necessary and intended for the safety of life and property on navigable waters during this event. During each enforcement period, no person or vessel may enter the respective safety zone without the permission of the Captain of the Port Buffalo.

DATES: The regulations in 33 CFR 165.939 will be enforced on July 3, 2015 from 9 p.m. to 10:30 p.m., on July 4, 2015 from 9 p.m. to 11:30 p.m., and on July 4, 2015 from 9:15 p.m. to 11 p.m.

FOR FURTHER INFORMATION CONTACT: If you have questions on this document, call or email LT Stephanie Pitts, Chief of Waterways Management Division, U.S. Coast Guard Marine Safety Unit Cleveland; telephone 216-937-0128, email Stephanie.M.Pitts@uscg.mil.

SUPPLEMENTARY INFORMATION: The Coast Guard will enforce the Safety Zones; Annual Events in the Captain of the Port Buffalo Zone listed in 33 CFR 165.939 for the following events:

(1) Mentor Harbor Yacht Club Fireworks, Mentor Harbor, OH; The safety zone listed in 33 CFR 165.939(a)(23) will be enforced from 9 p.m. to 10:30 p.m. on July 3, 2015.

(2) Conneaut Fourth of July Fireworks, Conneaut, OH; The safety zone listed in 33 CFR 165.939(a)(21) will be enforced from 9 p.m. to 11:30 p.m. on July 4, 2015.

(3) Lorain 4th of July Celebration Fireworks, Lorain, OH; The safety zone listed in 33 CFR 165.939(a)(28) will be enforced from 9:15 p.m. to 11 p.m. on July 4, 2015.

Pursuant to 33 CFR 165.23, entry into, transiting, or anchoring within these safety zones during an enforcement period is prohibited unless authorized by the Captain of the Port Buffalo or his designated representative. Those seeking permission to enter one of these safety zones may request permission from the Captain of Port Buffalo via channel 16, VHF-FM. Vessels and persons granted permission to enter one of these safety zones shall obey the directions of the Captain of the Port Buffalo or his designated representative. While within a safety zone, all vessels shall operate at the minimum speed necessary to maintain a safe course.

This document is issued under authority of 33 CFR 165.939 and 5 U.S.C. 552(a). In addition to this notification in the Federal Register, the Coast Guard will provide the maritime community with advance notification of these enforcement periods via Broadcast Notice to Mariners or Local Notice to Mariners. If the Captain of the Port Buffalo determines that one of these safety zones need not be enforced for the full duration stated in this document he or she may use a Broadcast Notice to Mariners to grant general permission to enter the respective safety zone.

Dated: June 9, 2015.
B.W. Roche,
Captain, U.S. Coast Guard, Captain of the Port Buffalo.

[FR Doc. 2015-15918 Filed 6-26-15; 08:45 am]

BILLING CODE 9110-04-P